NATIONAL FOUNDATION ON THE ARTS AND THE HUMANITIES

Institute of Museum and Library Services

47th Meeting of the National Museum and Library Services Board

AGENCY: Institute of Museum and Library Services (IMLS), National Foundation on the Arts and the Humanities (NFAH).

ACTION: Notice of meeting.

SUMMARY: Pursuant to the Federal Advisory Committee Act, notice is hereby given that the National Museum and Library Services Board will meet to advise the Director of the Institute of Museum and Library Services (IMLS) with respect to duties, powers, and authority of IMLS relating to museum, library, and information services, as well as coordination of activities for the improvement of these services.

DATES: The meeting will be held on July 18, 2023, from 9 a.m. until adjourned.

ADDRESSES: The meeting will convene in person with limited capability for virtual participation. Instructions for attending will be sent to all registrants. The meeting will be held at 955 L'Enfant Plaza North, SW, Suite 4000, Room 4029, Washington, DC 20024.

FOR FURTHER INFORMATION CONTACT: Katherine Maas, Chief of Staff and Alternate Designated Federal Officer, Institute of Museum and Library Services, Suite 4000, 955 L'Enfant Plaza North SW, Washington, DC 20024; (202) 653-4798; kmaas@imls.gov.

SUPPLEMENTARY INFORMATION: The National Museum and Library Services Board is meeting pursuant to the National Museum and Library Service Act, 20 U.S.C. 9105a, and the Federal Advisory Committee Act (FACA), as amended, 5 U.S.C. app.

The 47th Meeting of the National Museum and Library Services Board, which is open to the public, will convene at 9 a.m. Eastern Time on July 18, 2023. The agenda for the 47th Meeting of the National Museum and Library Services Board will be as follows:

I. Call to Order

II. Approval of Minutes of the 46th Meeting

III. Director's Welcome and Update

IV. Programmatic Updates and Discussion:

A. Library Grants to States Program;

B. Museums Research and Data;

C. IMLS 250—Preparing for the Upcoming 250th Anniversary of the United States;

D. Advancing Information Literacy.

If you wish to attend the meeting, please inform IMLS as soon as possible, but no later than close of business on July 12, 2023, by contacting Katherine Maas at kmaas@imls.gov. Please provide notice of any special needs or accommodations by July 5th, 2023.

Dated: June 20, 2023.
Brianna Ingram,
Paralegal Specialist.

[FR Doc. 2023-13421 Filed 6-23-23; 8:45 am]

BILLING CODE 7036-01-P